DEPARTMENT OF ENERGY

Federal Energy Regulatory Commission

Notice of Application Accepted for Filing and Soliciting Motions To Intervene and Protests and Establishing Procedures for Relicensing and a Deadline for Submission of Final Amendments

October 10, 2001.

Take notice that the following hydroelectric application has been filed with the Commission and is available for public inspection:

a. Type of Application: Minor new license.

b. Project No.: 2064-004.

c. Date Filed: November 26, 1999.

d. Applicant: Flambeau Hydro LLC.

e. Name of Project: Winter Hydroelectric Project.

f. Location: Partially within the Chequamegon National Forest, on the East Fork of the Chippewa River near the town of Winter, Sawyer County, Wisconsin.

g. Filed Pursuant to: Federal Power Act 16 U.S.C. 791 (a)—825(r).

h. Applicant Contact: Mr. Loyal Gake, Flambeau Hydro LLC, P.O. Box 167, Neshkoro, WI 54960 (920) 293-4628 Ext.12.

i. FERC Contact: Michael Spencer, michael.spencer@FERC.fed.us, (202) 219-2846.

j. Deadline for filing motions to intervene and protests: 60 days from the issuance date of this notice.

All documents (original and eight copies) should be filed with: David P. Boergers, Secretary Federal Energy Regulatory Commission, 888 First Street, NE, Washington, DC 20426. Comments, protests and interventions may be filed electronically via the Internet in lieu of paper. See, 18 CFR 385.2001(a)(1)(iii) and the instructions on the Commission's web site under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of Project: The existing project consists of: (1) A 14-foot-high, 140-foot-long concrete stop log diversion dam (2) a 30 acre reservoir with a normal storage capacity of 165 area-feet, at a normal pool elevation of 1367.7 mean sea level; (3) a 2,100-foot-long power canal; (4) an 18-foot-wide concrete intake structure; (5) two 5.5-foot-diameter 78-foot-long steel penstocks; (6) a powerhouse containing two generating units with a combined capacity of 600 kW, and an average annual generation 2,130 MWh and appurtenant facilities.

m. Locations of the application: A copy of the application is available for inspection and reproduction at the Commission's Public Reference Room, located at 888 First Street, NE., Room 2A, Washington, DC 20246, or by calling (202) 208-1371. The application may be viewed on the web at http://www.ferc.fed.us/online/rims.htm (call (202) 208-2222 for assistance). A copy is also available for inspection and reproduction at the address in item h. above.

n. Procedural schedule and final amendments: The application will be processed according to the following milestones, some of which may be combined to expedite processing:

Notice of application has been accepted for filing

Notice of NEPA Scoping (unless scoping has already occurred)

Notice of application is ready for environmental analysis

Final amendments to the application must be filed with the Commission*

Notice of the availability of the draft NEPA document

Notice of the availability of the final NEPA document

Order issuing the Commission's decision on the application

* Final amendments to the application must be filed with the Commission no later than 30 days from the issuance date of the notice of ready for environmental analysis.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents -All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

David P. Boergers,
Secretary.

[FR Doc. 01-25930 Filed 10-15-01; 8:45 am]

BILLING CODE 6717-01-P